INTERNATIONAL TRADE COMMISSION

[USITC SE-14-041]

Sunshine Act Meeting; Change of Time of Sunshine Act Meeting

AGENCY HOLDING THE MEETING: United States International Trade Commission.

DATE: December 15, 2014.

NEW TIME: 12:00 p.m.

PLACE: Room 101, 500 E Street SW., Washington, DC 20436. Telephone: (202) 205-2000.

STATUS: Open to the public.

In accordance with 19 CFR 201.35(d)(1), the Commission hereby gives notice that the meeting of December 15, 2014 will be held at 12:00 p.m.

In accordance with Commission policy, subject matter listed above, not disposed of at the scheduled meeting, may be carried over to the agenda of the following meeting. Earlier notification of this change was not possible.

By order of the Commission:
Issued: December 10, 2014.
Lisa R. Barton,
Secretary to the Commission.

[FR Doc. 2014-29254 Filed 12-10-14; 4:15 pm]

BILLING CODE 7020-02-P